INTERNATIONAL TRADE COMMISSION

[Investigation No. 337-TA-935]

Certain Personal Transporters, Components Thereof, and Manuals Therefor Institution of Investigation

AGENCY: U.S. International Trade Commission.

ACTION: Notice.

SUMMARY: Notice is hereby given that a complaint was filed with the U.S. International Trade Commission on September 9, 2014, under section 337 of the Tariff Act of 1930, as amended, 19 U.S.C. § 1337, on behalf of Segway Inc. of Bedford, New Hampshire and DEKA Products Limited Partnership of Manchester, New Hampshire. A supplement to the complaint was filed on September 19, 2014. An amended complaint was filed on October 6, 2014. The amended complaint alleges violations of section 337 based upon the importation into the United States, the sale for importation, and the sale within the United States after importation of certain personal transporters, components thereof, and manuals therefor by reason of infringement of certain claims of U.S. Patent No. 6,789,640 (“the '640 patent”); U.S. Patent No. 7,275,607 (“the '607 patent”); U.S. Patent No. 8,830,048 (“the '048 patent”); U.S. Design Patent No. D551,722 (“the '722 patent”); U.S. Design Patent No. D551,592 (“the '592 patent”); and Copyright Registration No. TX 7-800-563; and that an industry in the United States exists as required by subsection (a)(2) of section 337.

The complainants request that the Commission institute an investigation and, after the investigation, issue a general exclusion order, or in the alternative a limited exclusion, and cease and desist orders.

ADDRESSES: The amended complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2014).

Scope of Investigation: Having considered the amended complaint, the U.S. International Trade Commission, on November 4, 2014, ordered that—

(1) Pursuant to subsection (b) of section 337 of the Tariff Act of 1930, as amended, an investigation be instituted to determine:

(a) Whether there is a violation of subsection (a)(1)(B) of section 337 in the importation into the United States, the sale for importation, or the sale within the United States after importation of certain personal transporters, components thereof, and manuals therefor by reason of infringement of one or more of claims 1 and 4 of the '640 patent; claims 1, 3, and 7 of the '607 patent; claims 1, 2, 4, 5, 6, and 7 of the '048 patent; the claim of the '722 design patent; and the claim of the '592 design patent;

(b) whether there is a violation of subsection (a)(1)(B) of section 337 in the importation into the United States, the sale for importation, or the sale within the United States after importation of certain personal transporters, components thereof, and manuals therefor by reason of infringement of U.S. Copyright Registration No. TX-7-800-563; and

(c) whether an industry in the United States exists as required by subsection (a)(2) of Section 337;

(2) For the purpose of the investigation so instituted, the following are hereby named as parties upon which this notice of investigation shall be served:

(a) The complainants are:

Segway Inc., 14 Technology Drive, Bedford NH 03110

DEKA Products Limited Partnership, 340 Commercial St., Suite 401, Manchester, NH 03101

(b) The respondents are the following entities alleged to be in violation of section 337, and are the parties upon which the amended complaint is to be served:

PowerUnion (Beijing) Tech Co. Ltd., A09, 2nd Floor, Guangshun North Street No. 19, Chaoyang District, Beijing, PRC 100012

UPTECH Robotics Technology Co., Ltd., Room 302,3/F TianLi Building No. 56, ZhiChun Road, Haidan District, Beijing, PRC 100098

Beijing Universal Pioneering Robotics Co., Ltd., Room 302,3/F TianLi Building No. 56, ZhiChun Road, Haidan District, Beijing, PRC 100098

Beijing Universal Pioneering Technology Co., Ltd., 4F Zhong Hang Ke Ji Building, ZhiChun Road, Haidan District, Beijing, PRC 100098

Ninebot Inc. (in China), Room 101,1/F, Building A-1, Northern Territory, Zhongguancun Dongsheng Science and Technology Park, No.66, Xixiaokou Road, Haidian District, Beijing, PRC 100102

Ninebot Inc. (in USA), 113 Barksdale Professional Ctr., Newark, DE 19711

Shenzhen INMOTION Technologies Co., Ltd., (West Side) 1st Floor, Building 711, Pengji Industrial Zone, Liantang Street, Luohu District, Shenzhen, Guangdong, PRC

Robstep Robot Co., Ltd., Room 110, The R&D Building, No. 1 Sci & Tech Road 9, SSL Sci & Tech Industry Park, Dongguan, Guangdong, PRC 523808

FreeGo High-Tech Corporation Limited, 6/F, Block I, Electronic Info Industrial Park, HuangCheng Road, YangMei, Bantian, Shenzhen, PRC 518129

Freego USA, LLC, 915 5th Pl., Sibley, IA 51249

Tech in the City, 77 Pauahi St., Honolulu, HI 96813

Roboscooters.com, 21541 Crawford Lake Rd., Laurel Hill, NC 28541

EcoBoomer Co. Ltd., 18139 Coastline Dr., Suite 3, Malibu, CA 90265

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: November 5, 2014.
Lisa R. Barton,
Secretary to the Commission.

[FR Doc. 2014-26629 Filed 11-7-14; 8:45 am]

BILLING CODE 7020-02-P